DEPARTMENT OF AGRICULTURE

[Docket No. USDA-2020-0005]

Notice of Request for Approval for Generic Clearance To Conduct Multiple Crop and Pesticide Use Surveys

AGENCY: Office of the Chief Economist, Office of Pest Management Policy, USDA.

ACTION: Notice and request for comments.

SUMMARY: In accordance with the Paperwork Reduction Act of 1995, this notice announces the intention of USDA's Office of Pest Management Policy to request approval for a new information collection for Multiple Crop and Pesticide Use Surveys.

DATES: Comments on this notice must be received by May 26, 2020 to be assured of consideration.

ADDRESSES: USDA invites interested persons to submit comments on this notice. Comments may be submitted by one of the following methods:

• Federal eRulemaking Portal: This website provides the ability to type short comments directly into the comment field on this web page or attach a file for lengthier comments. Go to http://www.regulations.gov. Follow the on-line instructions at that site for submitting comments.

• Mail, Including CD-ROMs, etc.: Send to Docket Clerk, U.S. Department of Agriculture, Office of the Chief Economist, Office of Pest Management Policy, 1400 Independence Avenue SW, Room 3871-South Building, Mailstop 3817, Washington, DC 20250.

• Hand- or Courier-Delivered Submittals: Deliver to 1400 Independence Avenue SW, Room 3871—South Building, Washington, DC 20250. You may also send comments to the Desk Officer for Agriculture, Office of Information and Regulatory Affairs, Office of Management and Budget, Washington, DC 20503.

Instructions: All items submitted by mail or electronic mail must include the Agency name and Docket No. USDA-2020-0005. Comments received in response to this docket will be made available for public inspection and posted without change, including any personal information, to http://www.regulations.gov.

FOR FURTHER INFORMATION CONTACT: Elizabeth Hill, Office of the Chief Economist, Office of Pest Management Policy, U.S. Department of Agriculture, 1400 Independence Ave. SW, Washington, DC 20250, (202) 720-3846.

SUPPLEMENTARY INFORMATION: Title: Generic Clearance to Conduct Multiple Crop and Pesticide Use Surveys.

OMB Number: 0503-New.

Expiration Date of Approval: Three years from approval date.

Type of Request: New information collection.

Abstract: The Office of Pest Management Policy (OPMP) of the United States Department of Agriculture (USDA) requests approval from the Office of Management and Budget (OMB) for generic clearance that will allow OPMP to collect information from agricultural entities. The primary purpose of this information will be to support OPMP's understanding of agricultural practices pertaining to pest management. OPMP is undertaking this effort to satisfy legislative requirements outlined in Title X, Section 10109 of the 2018 Farm Bill, which mandates that the Secretary of Agriculture, acting through the Office of the Chief Economist's Director of OPMP, collect this information.

Pest management information is critical to supporting a key responsibility of OPMP, i.e., to “consult with agricultural producers that may be affected by pest management or pesticide-related activities or actions of the Department or other agencies,” as outlined in the Agricultural Research, Extension, and Education Reform Act of 1998. This request for approval will improve OPMP's ability to better understand the utilization of pest management tools by agricultural producers via input from pest management advisors—including Extension experts and crop consultants, who in addition to being advisors are often agricultural producers themselves. Data collected are intended to capture agricultural practices and needs to support Federal activities that pertain to pest management, which are typically time-sensitive and necessitate the need for rapid data collection.

In most cases, the turnaround time for these information collections will be a function of 60-day public comment periods associated with pesticide licensing actions, making it essential for OPMP to promptly administer requests and collect responses. Various factors drive what types of questions OPMP may ask, including the active ingredient, crop, region, application method, and specific target pest problems. Examples of questions include inquiries regarding pesticide usage, the availability and comparative utility of alternative pest management tactics for target pests, and resistance management concerns. Further, OPMP often needs to understand niche pest situations on specific crops and/or regions, which typically is not information that is readily available. In certain cases, a single information collection may be administered to pest management advisors across several active ingredients for a use site. This would avoid multiple outreach efforts to the same respondents, reducing both respondent and government burden.

This effort does not intend to duplicate information collection activities administered by USDA's National Agricultural Statistics Service (NASS) that pertain to pest management. When needed data are current and available through NASS collection efforts, it is OPMP's policy to utilize and recognize such information as Best Available Data.

These data will be collected under the authority of 7 U.S.C. 2204(a). Individually identifiable data collected under this authority are governed by section 1770 of the Food Security Act of 1985, 7 U.S.C. 2276. This Notice is submitted in accordance with the Paperwork Reduction Act of 1995 (Pub. L. 104-113) and OMB's regulations at 5 CFR part 1320 (60 FR 44978, August 29, 1995).

Estimate of Burden: Public reporting burden for this collection of information is estimated to average 15 minutes per response. Outside of upfront demographic questions, no more than 10 questions will be asked per response.

Type of Respondents: American Society of Agronomy Certified Crop Advisors (CCAs), Crop Consultants associated with the National Alliance of Independent Crop Consultants (NAICC), and university agricultural specialists (including Extension experts) that work with or on behalf of agriculturalists, such as farmers, ranchers, nursery operators, animal operations (cattle, chickens, catfish, etc.), foresters, beekeepers, farm managers, farm contractors, extermination and pest control operators, postharvest crop packing and/or processing activities, and/or cotton ginning.

Estimated Number of Respondents: Given that it is impossible to predict the number of impactful Federal actions that pertain to pest management in any given year, the entire universe of specialists employed in the areas outlined above could be considered as possible respondents. Realistically, however, only a small subset of these individuals is expected to respond or even be requested to participate in providing information. Using estimates provided by the American Society of Agronomy and NAICC, as of June 2019 there were 11,695 CCAs in the United States and approximately 800 NAICC independent crop consultants. Although some individuals are both CCAs and independent crop consultants, at most the total universe of crop advisors/consultants is 12,495 respondents. Of these respondents, NASS survey methodologists estimate a response rate of 15 percent should be expected until further empirical data is available, or 1,874 respondents if crop consultants across all agricultural systems were surveyed.

Of the institutions represented under the North American Industry Classification System (NAICS) code “Universities, and Professional Schools” (NAICS 6113), respondents are limited to land grant universities housing agricultural experts and/or Extension specialists. Typically, only one expert/specialist from a land grant university has the knowledge to respond to the types of questions that would be included in the proposed information collection, with an estimate of 130 such entities existing according to the Association of Public and Land-Grant Universities. This would result in 20 respondents assuming a 15 percent response rate. In all, across crop advisors/consultants and university specialists, the number of respondents per request is likely no greater than 1,894. The actual number of respondents for any given information request is expected to be far less than this, as requests will be for specific crops, regions, and/or pest management needs.

Estimated Number of Responses: It is not possible to precisely predict the number of significant actions or activities that would necessitate OPMP conducting an information collection request. From 2016 to 2019, the Environmental Protection Agency (EPA) made approximately 40 requests to OPMP for information across a total of more than 85 crops. Additionally, as of June 2019, EPA had 73 Preliminary Interim Decisions (PIDs) and 55 Draft Risk Assessments (DRAs) scheduled for completion in Fiscal Year 2019 (FY19), which is likely representative of the number of PID and DRA actions on an annual basis for the foreseeable future. OPMP does not plan to seek additional information for all actions and each action typically only applies to a subset of crops grown in the United States. Historically, for most actions that necessitate OPMP input, individual inquiries typically address one to five crops, although in some cases inquiries may target the same crop and could result in the target population being contacted more than once annually. This is a function of more than one EPA action out for public comment in a given year being registered for use on the same crop. EPA actions are posted to the docket in quarterly batches which allows OPMP to limit contacting individual respondents to four or fewer times annually, as OPMP will be able to combine questions across multiple crops onto one survey. For this new collection request, 1,894 respondents could be contacted four times annually, or 7,576 responses per year.

Estimated Number of Responses per Respondent: Respondents will be contacted no more than four times annually, i.e., on a quarterly basis.

Estimated Total Annual Burden on Respondents: 3,166 burden hours annually, or 9,498 hours over the 3-year life of the approved collection. [As stated in 13c of the Form OMB 83-1.]

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Robert Johansson,
Chief Economist.

[FR Doc. 2020-06466 Filed 3-26-20; 8:45 am]

BILLING CODE 3410-GL-P